DEPARTMENT OF THE INTERIOR

Fish and Wildlife Service

[FWS-R1-ES-2014-N082; FXES11130100000-145-FF01E00000]

Endangered and Threatened Wildlife and Plants; Revised Draft Recovery Plan for the Coterminous United States Population of Bull Trout (Salvelinus confluentus)

AGENCY: Fish and Wildlife Service, Interior.

ACTION: Notice of document availability for review and public comment.

SUMMARY: We, the U.S. Fish and Wildlife Service (Service), announce the availability of the Revised Draft Recovery Plan for the Coterminous United States Population of Bull Trout under the Endangered Species Act of 1973, as amended (Act). The revised draft recovery plan includes specific goals, objectives, and criteria that should be met to remove the species from the Federal List of Endangered and Threatened Wildlife and Plants. We request review and comment on this revised draft recovery plan from Federal, State and local agencies, Native American Tribes, and the public.

DATES: In order to be considered, comments on the revised draft recovery plan must be received on or before December 3, 2014.

ADDRESSES: An electronic copy of the recovery plan is available at http://www.fws.gov/endangered/species/recovery-plans.html and http://www.fws.gov/pacific/ecoservices/endangered/recovery/plans.html. Copies of the recovery plan are also available by request from the U.S. Fish and Wildlife Service, Idaho Fish and Wildlife Office, 1387 S. Vinnell Way, Room 368, Boise, ID 83709; telephone (208) 378-5345. Printed copies of the recovery plan will be available for distribution within 4 to 6 weeks after publication of this notice.

If you want to comment, you may submit written comments by one of the following methods:

(1) You may submit written comments and materials to Bull Trout Recovery, Idaho Fish and Wildlife Office, at the above Boise address.

(2) You may hand-deliver written comments to our Idaho Fish and Wildlife Office, at the above Boise address, or fax them to (208) 378-5262.

(3) You may send comments by email to fw1bulltroutrecoveryplan@fws.gov.

FOR FURTHER INFORMATION CONTACT: Michael Carrier, State Supervisor, U.S. Fish and Wildlife Service, Idaho Fish and Wildlife Office, at the above Boise address; telephone (208) 378-5243. If you use a telecommunications device for the deaf (TDD), call the Federal Information Relay Service (FIRS) at 1-800-877-8339.

SUPPLEMENTARY INFORMATION:

Background

In November 1999, all populations of bull trout within the coterminous United States were listed as a threatened species pursuant to the Endangered Species Act of 1973, as amended (16 U.S.C. 1531 et seq.; Act) (64 FR 58910; November 1, 1999). This final listing added bull trout in the Coastal-Puget Sound populations (Olympic Peninsula and Puget Sound regions) and Saint Mary-Belly River populations (east of the Continental divide in Montana) to the previous listing of three distinct population segments of bull trout in the Columbia River, Klamath River, and Jarbidge River basins (63 FR 31647, June 10, 1998; 64 FR 17110, April 8, 1999).

Recovery of endangered and threatened animals and plants is a primary goal of our endangered species program. To help guide the recovery effort, we prepare recovery plans for most listed species. Recovery plans describe actions considered necessary for conservation of the species, establish criteria for downlisting or delisting, and estimate time and cost for implementing recovery measures.

For the coterminous population of bull trout, three separate draft bull trout recovery plans were completed in 2002 and 2004. The 2002 draft recovery plan (USFWS 2002) addressed bull trout populations within the Columbia, St. Mary-Belly, and Klamath River basins and included individual chapters for 24 separate recovery units. In 2004, draft recovery plans were developed for the Coastal-Puget Sound drainages in western Washington, including two recovery unit chapters (USFWS 2004a), and for the Jarbidge River in Nevada (USFWS 2004b). None of these draft recovery plans were finalized, but they have served to identify recovery actions across the range of the species, and provide the framework for implementing numerous recovery actions by our partner agencies, local working groups, and others with an interest in bull trout conservation.

Our most recent 5-year status review for bull trout was completed on April 8, 2008, and concluded that listing the species as “threatened” remained warranted rangewide in the coterminous United States. Based on this status review, in our 2010 recovery report to Congress we reported that bull trout were generally “stable” overall rangewide (species status neither improved nor declined during the reporting year), with some core area populations decreasing, some stable, and some increasing. Since the listing of bull trout, there has been very little change in the general distribution of bull trout in the conterminous United States, and we are not aware that any known, occupied bull trout core areas have been extirpated. Additionally, since the listing of bull trout, numerous conservation measures have been and continue to be implemented across its coterminous range. These measures are being undertaken by a wide variety of local and regional partnerships, including State fish and game agencies, State and Federal land management and water resource agencies, Tribal governments, power companies, watershed working groups, water users, ranchers, and landowners.

Recovery Plan Components

The primary recovery strategy for bull trout in the coterminous United States that we propose in the draft recovery plan is to: (1) Conserve bull trout so that they are geographically widespread across representative habitats and demographically stable in six Recovery Units; (2) effectively manage and ameliorate the primary threats in each of six recovery units at the core area scale such that bull trout are not likely to become endangered in the foreseeable future; (3) build upon the numerous and ongoing conservation actions implemented on behalf of bull trout since their listing in 1999, and improve our understanding of how various threat factors potentially affect the species; (4) use that information to work cooperatively with our partners to design, fund, prioritize, and implement effective conservation actions in those areas that offer the greatest long-term benefit to sustain bull trout and where recovery can be achieved; and (5) apply adaptive management principles to implementing the bull trout recovery program to account for new information.

Bull trout population status remains strong in some core areas. However, in developing this revised draft recovery plan, we also acknowledge that despite our best conservation efforts, it is likely that some existing bull trout core areas will become extirpated due to various factors, including the effects of small populations and isolation (35 of 110 extant core areas comprise a single local population). Our current approach to developing recovery criteria and necessary recovery actions for bull trout is intended to ensure adequate conservation of genetic diversity, life-history features, and broad geographical representation of bull trout populations while acknowledging some local extirpations are likely to occur.

We may initiate an assessment of whether recovery has been achieved and delisting is warranted when the recovery criteria below have been met in each recovery unit. Alternatively, if recovery criteria are met in an individual recovery unit, we may initiate an assessment of whether to designate that recovery unit as a distinct population segment and if delisting of that distinct population segment would be warranted.

For the Coastal, Mid-Columbia, Upper Snake and Columbia Headwaters Recovery Units, the draft plan provides that primary threats must be effectively managed in at least 75 percent of all core areas, representing 75 percent or more of bull trout local populations within each of these four recovery units. For the Klamath and St. Mary Recovery Units, the draft plan provides that all primary threats must be effectively managed in all existing core areas, representing all existing local populations. In addition, because 9 of the 17 known local populations in the Klamath Recovery Unit have been extirpated and others are significantly imperiled and require active management, we believe that the geographic distribution of bull trout within this recovery unit needs to be substantially expanded before it can be considered to have met recovery goals. To achieve recovery, we seek to add seven additional local populations distributed among the three core areas (two in the Upper Klamath Lake core area, three in the Sycan core area, and two in the Upper Sprague core area). In recovery units where shared foraging/migratory/overwintering (FMO) habitat outside core areas has been identified, connectivity and habitat in these shared FMO areas should be maintained in a condition sufficient for regular bull trout use and successful dispersal among the connecting core areas for those core areas to meet the criterion.

If threats are effectively managed at these thresholds, we expect that bull trout populations will respond accordingly and reflect the biodiversity principles of resiliency, redundancy, and representation. Specifically, achieving the proposed recovery criteria in each recovery unit would result in geographically widespread and demographically stable local bull trout populations within the range of natural variation, with their essential cold water habitats connected to allow their diverse life history forms to persist into the foreseeable future; therefore, the species would be brought to the point where the protections of the Act are no longer necessary.

We anticipate that the final bull trout recovery plan will describe the principal actions needed to advance the recovery of bull trout in the six recovery units within the coterminous United States; and will include individual Recovery Unit Implementation Plans (RUIPs) for each recovery unit that will provide site-specific detail at the core area scale. The RUIPs for each recovery unit will be developed through an interagency collaboration of interested and knowledgeable Federal, Tribal, State, private, and other parties prior to completion of the final recovery plan. In many parts of the range of bull trout, local interagency bull trout working groups have previously identified recovery actions necessary for local bull trout core area conservation, and are already implementing conservation actions. Therefore, we anticipate that in many areas, developing a RUIP will build upon existing efforts and information. RUIPs incorporated in the final recovery plan will also include implementation schedule that outline core area specific recovery actions and estimated costs for bull trout recovery.

To allow public review and comment on the draft RUIPs for each recovery unit, including the draft Implementation Schedule and total estimated recovery costs, we will publish in the Federal Register a notice of their availability for review at least 90 days prior to completing the final bull trout recovery plan.

Request for Public Comments

Section 4(f) of the Act requires us to provide public notice and an opportunity for public review and comment during recovery plan development. It is also our policy to request peer review of recovery plans (59 FR 34270; July 1, 1994). In an appendix to the approved final recovery plan, we will summarize and respond to the issues raised by the public and peer reviewers. Substantive comments may or may not result in changes to the recovery plan; comments regarding recovery plan implementation will be forwarded as appropriate to Federal or other entities so that they can be taken into account during the course of implementing recovery actions.

We request written comments on the revised draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Dated: July 23, 2014.
Robyn Thorson,
Regional Director, Pacific Region, U.S. Fish and Wildlife Service.

[FR Doc. 2014-21026 Filed 9-3-14; 8:45 am]

BILLING CODE 4310-55-P